DEPARTMENT OF THE INTERIOR

National Park Service

Notice of Continuation of Concession Contract; 2410-OYC

AGENCY: National Park Service, Interior.

ACTION: Public notice.

DATES: Effective Date: October 1, 2010.

FOR FURTHER INFORMATION CONTACT: Jo A. Pendry, Chief, Commercial Services Program, National Park Service, 1201 Eye Street, NW., 11th Floor, Washington, DC 20005, Telephone 202/513-7156.

SUMMARY: Pursuant to 36 CFR 51.23, public notice is hereby given that the National Park Service proposes a continuation of visitor services for the following expiring concession contract for a period of one year through September 30, 2011.

SUPPLEMENTARY INFORMATION: The listed concession authorization will expire by its terms on September 30, 2010. The National Park Service has determined that the proposed continuation of visitor services is necessary in order to avoid an interruption of visitor services and has taken all reasonable and appropriate steps to consider alternatives to avoid such interruption.

Concession ID No. | Concessioner name | Park
LAKE004-88 | Lake Mead Cruises | Lake Mead National Recreation Area.

FOR FURTHER INFORMATION CONTACT: Jo A. Pendry, Chief, Commercial Services Program, National Park Service, 1201 Eye Street, NW., 11th Floor, Washington, DC 20005, Telephone 202/513-7156.

Dated: September 29, 2010.
Katherine H. Stevenson,
Associate Director, Business Services.

[FR Doc. 2010-28702 Filed 11-12-10; 8:45 am]

BILLING CODE 4312-53-P